DEPARTMENT OF THE INTERIOR

Bureau of Land Management

DEPARTMENT OF AGRICULTURE

Forest Service

[WO-830-1030-XP-2-24 1A]

Extension of Approved Information Collections, OMB 1004-0172 and 1004-0181

AGENCY: Bureau of Land Management, Interior, and Forest Service, Agriculture.

ACTION: Notice and request for comments.

SUMMARY: In accordance with the Paperwork Reduction Act of 1995, the Bureau of Land Management (BLM) and the United States Department of Agriculture, Forest Service (USDAFS), request the Office of Management and Budget (OMB) to extend existing approvals to collect information through conducting surveys of the public for their respective user groups.

DATES: You must submit your comments to BLM at the appropriate address below on or before August 14, 2001. BLM will not necessarily consider any comments receive after the above date.

ADDRESSES: You may mail comments to: Regulatory Affairs Group (630), Bureau of Land Management, 1849 C Street, NW., Room 401LS, Washington, DC 20240.

You may send comments via Internet to: WOComment@blm.gov. Please include “ATTN: 1004-0172 and 1004-0181” and your name and return address in your Internet message.

You may hand deliver comments to the Bureau of Land Management, Administrative Record, Room 401, 1620 L Street, NW., Washington, DC.

Comments will be available for public review at the L Street address during regular business hours (7:45 a.m. to 4:15 p.m.), Monday through Friday.

FOR FURTHER INFORMATION CONTACT: You may contact Andrew Goldsmith, Management Systems Group, Business and Fiscal Resources Directorate, on (202) 452-5169 (Commercial or FTS). Persons who use a telecommunications device for the deaf (TDD) may call the Federal Information Relay Service (FIRS) on 1-800-877-8330, 24 hours a day, seven days a week, to contact Mr. Goldsmith.

SUPPLEMENTARY INFORMATION: 5 CFR 1320.12(a) requires that we provide a 60-day notice in the Federal Register concerning a collection of information to solicit comments on:

(a) Whether the collection of information is necessary for the proper functioning of the agencies, including whether the information will have practical utility;

(b) The accuracy of our estimates of the information collection burden, including the validity of the methodology and assumptions we use;

(c) Ways to enhance the quality, utility, and clarity of the information collected; and

(c) Ways to minimize the information collection burden on those who are to respond, including the use of appropriate automated, electronic, mechanical or to her technological collection techniques or other forms of information technology. BLM will receive and analyze any comments sent in response to this notice and include them with its request for approval from OMB under 44 U.S.C. 3501 et seq.

I. Background

II. Current Actions

III. Methodology

IV. Requests for Comments

I. Background

The Government Performance and Results Act of 1993 (Pub. L. No 103-62) sets out to “improve Federal program effectiveness and public accountability by promoting a new focus on results, service quality, and customer satisfaction.” In order to fulfill this responsibility, the BLM and USDAFS must collect data from their respective user groups to:

(1) Better understand the needs and desires of the public; and

(2) Respond to those needs and desires accordingly.

Executive Order No. 12862 fortifies this course of action. The Order discusses surveys as a means to determine the kinds and qualities of services the Federal Government's customers desire and to determine satisfaction levels for existing services. The BLM and USDAFS use these voluntary customer surveys to ascertain customer satisfaction with our services and products. Respondents are individuals and organizations who receive our services and products. Previous customer surveys provide useful information to assess how well we deliver our services, products, and for making improvements.

II. Current Actions

The request to OMB will be fore a three-year clearance to conduct customer surveys in the BLM and USDAFS. Over the past several years, we conducted several customer surveys, including the use of focus groups an a BLM-USDAFS comment card. The BLM uses this information to improve its products and services. (Examples of previously conducted customer surveys are available upon request.) Our planned activities in the next three fiscal years reflect our increased emphasis on and expansion of these activities.

III. Methodology

The BLM and USDAFS survey customers in the following general categories:

(1) Use requiring authorization;

(2) State and private foresty;

(3) Timber sales;

(4) Wild horse and burro;

(5) Research;

(6) Law enforcement;

(7) Fire and aviation;

(8) Wildlife and fisheries;

(9) Recreation;

(10) Information [general, land, title, and technology-based];

(11) Pilot programs;

(12) Stakeholders and partners; and

(13) State and local governments.

We use a stratified sampling technique for categories 1 through 8; categories 9 and 10 use intercept surveys. We use a general sampling technique for categories 11 through 13. The randomize sample we pull from the database will include an estimated 1,200 persons unless the database population is less than 1,200, at which point we will survey all. We set an 80% response rate goal. Whenever possible, we choose telephone surveys over mail surveys.

We develop questionnaires with the help of focus groups from around the country. We ask questions in the following general areas:

(1) Program specific (i.e., processing permits, recordation of mining claims, facilities and access to public land for recreation);

(2) Service delivery;

(3) Management practices;

(4) Resource protection;

(5) Rules, regulations, and policies;

(6) Communication with the public;

(7) Overall satisfaction; and

(8) General demographics.

IV. Requests for Comments

We are particularly interested in comments on the actions discussed in Items II and III. We provide the following guidelines to assist you in responding.

General Issues

A. Is the proposed collection of information in categories 1 through 13 (see III) necessary, taking into account accuracy, adequacy, and reliability, and the agency's ability to process the information in a useful and timely fashion?

B. What enhancements can the BLM and USDAFS make to the quality, utility, and clarity of the information to be collected?

As a Potential Respondent

A. We estimate the average public reporting burden for a customer survey is 15 minutes per response (13,000 respondents per year × 15 minutes per response = 3,250 hours annually). For comment cards, we estimate the average public reporting burden is three minutes per response (30,000 respondents per year × three minutes per response = 1,500 hours annually).

The information collection burden includes the total time, effort, or financial resources we expend to generate, maintain, retain, or disclose or provide the information including to:

(1) Review instructions;

(2) Develop, acquire, install, and utilize technology and systems for purposes to collect, validate, verify, process, maintain, disclose, and provide information;

(3) Adjust the existing ways to comply with any previously applicable instructions and requirements;

(4) Train personnel to respond to a collection of information;

(5) Search data sources;

(6) Complete and review the collection of information; and

(7) Transmit or otherwise to disclose the information.

Please comment on (1) the accuracy of our estimate and (2) how the agencies could minimize the burden of the collection information, including the use of automated collection techniques.

B. The BLM and USDAFS estimate that respondents will incur no additional costs for reporting other than the time required to complete the collection. The estimates should take into account the costs associated to generate, maintain, and disclose or provide information.

C. Do you know of any other Federal, State, or local agency collecting similar data? If you do, specify the agency, collection element(s), and the methods of collection.

As a Potential User

Are there any alternative sources of data? Do you use them? If so, what are their deficiencies and/or strengths?

BLM will summarize all responses to this notice and include them in the request for OMB approval. All comments will also become a matter of public record.

Dated: May 29, 2001.
Michael Schwartz,
BLM Information Collection Clearance Officer.
Dated: May 21, 2001.
William Delaney,
USDA, Forest Service, Program Manager, Customer Service.

[FR Doc. 01-15106 Filed 6-14-01; 8:45 am]

BILLING CODE 4310-84-M